FEDERAL HOUSING FINANCE BOARD

[No. 2002-N-4]

Notice of Public Hearing on Federal Home Loan Bank Capital Plans

AGENCY: Federal Housing Finance Board.

ACTION: Notice of public hearing.

SUMMARY: Notice is hereby given that the Federal Housing Finance Board (Finance Board) will hold the following public hearing:

Time and Date of Hearing: 2 p.m., Thursday, April 11, 2002.

Place: Board Room, Second Floor, Federal Housing Finance Board, 1777 F Street, NW., Washington, DC 20006.

Agenda: Finance Board staff currently is reviewing the proposed capital plans submitted by the Federal Home Loan Banks (Banks) to the Finance Board for approval, pursuant to the requirements of the Gramm-Leach-Blilely Act and the Finance Board's capital regulation. The purpose of this hearing is to provide an opportunity for the Banks that choose to participate in the hearing to clarify how proposed capital plans are consistent with the cooperative structure of the Bank System and provide liquidity for Bank members in a safe and sound manner. Public testimony at the hearing will be limited to presentations by Bank presidents or Bank board of directors chairpersons. Testimony prepared by a Bank for public delivery at the hearing should be submitted in writing to the Finance Board by 2 p.m., Tuesday, April 9, 2002.

Other individuals or organizations interested in commenting on the Banks' proposed capital plans may do so by submitting their comments in writing to the Finance Board prior to April 11, 2002.

Status: This hearing will be open to the public.

ADDRESSES: Send testimony and comments to Elaine L. Baker, Secretary to the Board, by electronic mail to bakere@fhfb.gov, or by regular mail to the Federal Housing Finance Board, 1777 F Street, NW., Washington, DC 20006. Comments will be available for public inspection at this address.

FOR FURTHER INFORMATION CONTACT: Elaine L. Baker, Secretary to the Board, 202-408-2837 or Thomas D. Casey, Counsel to the Chairman, 202-408-2957.

Dated: April 2, 2002.
James L. Bothwell,
Managing Director.

[FR Doc. 02-8276 Filed 4-3-02; 8:45 am]

BILLING CODE 6725-02-P